DEPARTMENT OF TRANSPORTATION

Maritime Administration

[Docket No. DOT-MARAD 2015 0047]

Request for Comments of a Previously Approved Information Collection: Effective U.S. Control (EUSC)/Parent Company

AGENCY: Maritime Administration (MARAD), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on January 21, 2015 (80 FR 3005).

DATES: Comments must be submitted on or before June 1, 2015,

FOR FURTHER INFORMATION CONTACT: Russ Krause, 202-366-1031, Division of Sealift Operations and Emergency Response, U.S. Department of Transportation, 1200 New Jersey Avenue SE., Washington, DC 20590.

SUPPLEMENTARY INFORMATION: Title: Effective U.S. Control (EUSC)/Parent Company.

OMB Control Number: 2133-0511.

Type of Request: Renewal of a Previously Approved Information Collection.

Abstract: The Effective U.S. Control (EUSC) Parent Company collection consists of an inventory of foreign registered vessels owned by U.S. citizens. Specifically, the collection consists of responses from vessel owners verifying or correcting vessel ownership data and characteristics found in commercial publications. The information obtained could be vital in a national or international emergency, and is essential to the logistical support planning operations conducted by MARAD officials. The information is used in contingency planning and provides data related to potential sealift capacity to support movement of fuel and military equipment to crisis zones.

Affected Public: U.S. citizens who own foreign-registered vessels.

Estimated Number of Respondents: 60.

Estimated Number of Responses: 60.

Annual Estimated Total Annual Burden Hours: 30.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. chapter 35, as amended; and 49 CFR 1.93.

Dated: April 27, 2015.
Thomas M. Hudson, Jr.,
Acting Maritime Secretary, Office of Chief Council.

[FR Doc. 2015-10294 Filed 4-30-15; 8:45 am]

BILLING CODE 4910-81-P